DEPARTMENT OF HEALTH AND HUMAN SERVICES

National Institutes of Health

Proposed Collection; 60-Day Comment Request; National Cancer Institute (NCI) Future Fellows Resume Databank

AGENCY: National Institutes of Health, HHS.

ACTION: Notice.

SUMMARY: In compliance with the requirement of the Paperwork Reduction Act of 1995 to provide opportunity for public comment on proposed data collection projects, the National Institutes of Health, National Cancer Institute (NCI) will publish periodic summaries of propose projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Angela Jones, Program Coordinator, Center for Cancer Training, National Cancer Institute, 9609 Medical Center Drive, Room 2W-236, Bethesda, Maryland, 20892 or call non-toll-free number (240) 276-5659 or Email your request, including your address to: jonesangel@mail.nih.gov. Formal requests for additional plans and instruments must be requested in writing.

SUPPLEMENTARY INFORMATION: Section 3506(c)(2)(A) of the Paperwork Reduction Act of 1995 requires: Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimizes the burden of the collection of information on those who are to respond, including the use of appropriate automated, electronic, mechanical, or other technological collection techniques or other forms of information technology.

Proposed Collection Title: National Cancer Institute Future Fellows Resume Databank, 0925-XXXX, Exp., Date XX/XXXX, EXISTING COLLECTION IN USE WITHOUT OMB NUMBER, National Cancer Institute (NCI), National Institutes of Health (NIH).

Need and Use of Information Collection: The National Cancer Institute, Center for Cancer Training mission is to catalyze the development of the 21st century workforce capable of advancing cancer research through a scientifically integrated approach. This is accomplished by, (1) coordinating and providing research training and career development activities for fellows and trainees in NCI's laboratories, clinics, and other research groups, (2) developing, coordinating, and implementing opportunities in support of cancer research training, career development, and education at institutions nationwide, and (3) identifying workforce needs in cancer research and adapting NCI's training and career development programs and funding opportunities to address these needs. The proposed information collection involves a website to collect and maintain resumes of interested candidates to be considered for postdoctoral fellowships and internships in science. After posting their resume in the database, NCI Scientists can view and select candidates for current fellowship and internship opportunities offered at NCI.

OMB approval is requested for 3 years. There are no costs to respondents other than their time. The total estimated annualized burden are 200 hours.

Estimated Annualized Burden Hours
Form name | Type of respondent | Number of respondents | Number of responses per respondent | Average time per response (in hours) | Total annual burden hours
Resume Databank Application | Postdoctoral Fellows | 200 | 2 | 30/60 | 200
Total |  | 200 | 400 |  | 200

Dated: July 24, 2018.
Patricia M. Busche,
Project Clearance Liaison, National Cancer Institute, National Institutes of Health.

[FR Doc. 2018-17339 Filed 8-10-18; 8:45 am]

BILLING CODE 4140-01-P